Title 3—

The President

Proclamation 8150 of May 30, 2007

National Oceans Month, 2007

By the President of the United States of America

A Proclamation

Our Nation benefits from the oceans that contain precious natural treasures, carry much of our trade, and provide us with food and recreational opportunities. During National Oceans Month, we celebrate these benefits, and we underscore our commitment to being good stewards of the oceans.

Since the release of my Ocean Action Plan in 2004, my Administration has made great strides in ocean conservation by working with State, tribal, and local governments, the private sector, and our international partners in the spirit of cooperative conservation. In June 2006, I designated a national monument in the Northwestern Hawaiian Islands to celebrate the area's natural, cultural, and historical importance. The tropical waters of the Papahanaumokuakea Marine National Monument are a sanctuary for 7,000 marine species. This important Monument is our Nation's largest single conservation area and the largest protected marine area in the world. Earlier this year, I was also proud to sign into law the Magnuson-Stevens Fishery Conservation and Management Reauthorization Act of 2006 to end over-fishing and rebuild our Nation's fish stocks through more effective, market-based management. Internationally, we continue to lead in protecting the maritime environment while preserving the navigational freedoms essential to the security and prosperity of every nation. By working to build a well managed system of offshore aquaculture, we can provide a healthy source of food and reduce pressure on our ocean ecosystems.

During National Oceans Month and throughout the year, we recognize all who are dedicated to making our oceans, coasts, and Great Lakes cleaner, healthier, and more productive, including the many Federal agencies that make up the Committee on Ocean Policy. One of these agencies, the National Oceanic and Atmospheric Administration, celebrates two centuries of dedicated research and conservation of coastal and marine environments. By continuing to work together, we can conserve and enjoy the splendor of these magnificent waters now and for generations to come.

NOW, THEREFORE, I, GEORGE W. BUSH, President of the United States of America, do hereby proclaim June 2007 as National Oceans Month. I call upon the people of the United States to learn more about the vital role oceans play in the life of our country and ways we can conserve their many national treasures. I encourage all our citizens to observe this month with appropriate ceremonies and activities.

IN WITNESS WHEREOF, I have hereunto set my hand this thirtieth day of May, in the year of our Lord two thousand seven, and of the Independence of the United States of America the two hundred and thirty-first.

[FR Doc. 07-2799

Filed 6-1-07; 8:52 am]

Billing code 3195-01-P